DEPARTMENT OF COMMERCE

National Oceanic and Atmospheric Administration

DEPARTMENT OF THE INTERIOR

U.S. Fish and Wildlife Service

[I.D. 083101A]

Marine Mammals and Endangered Species; National Marine Fisheries Service File No. 989-1602; U.S. Fish and Wildlife Service File No. 033958

AGENCIES: National Marine Fisheries Service (NMFS), National Oceanic and Atmospheric Administration (NOAA), Commerce; U.S. Fish and Wildlife Service, Interior.

ACTION: Return of application.

SUMMARY: Notice is hereby given that the application submitted by Geo-Marine, Inc., 550 East 15th St., Plano, TX 75074, for a permit to take all marine mammal species (Cetacea,Pinnipedia, and Sirenia) and sea turtle species occurring in waters of Puerto Rico for purposes of scientific research has been returned to the applicant.

FOR FURTHER INFORMATION CONTACT: Amy Sloan or Ruth Johnson, Office of Protected Resources, NMFS, 301/713-2289.

SUPPLEMENTARY INFORMATION: On February 22, 2001, a notice was published in the Federal Register (66 FR 11155) that an application for a scientific research permit had been filed by Geo-Marine, Inc.

The Applicant requested authorization to conduct aerial surveys for marine mammals and sea turtles in near-shore waters of Vieques, Puerto Rico. The objectives of the surveys were to determine occurrence, migration routes, and habitat utilization for the species occurring in the Inner Range, Atlantic Fleet Weapons Training Facility, Vieques. The applicant failed to respond within 60 days to reviewer comments in order to complete their application, and thus, the application has been returned.

Dated: August 31, 2001.
Eugene T. Nitta,
Acting Chief, Permits and Documentation Division, Office of Protected Resources, National Marine Fisheries Service.
Dated: September 4, 2001.
Lisa J. Lierheimer,
Acting Chief, Branch of Permits, Division of Management Authority, U.S. Fish and Wildlife Service.

[FR Doc. 01-22806 Filed 9-11-01; 8:45 am]

BILLING CODE 3510-22-S